INTERNATIONAL TRADE COMMISSION

[Investigation No. 337-TA-1181]

Certain Lithium-Ion Battery Cells, Battery Modules, Battery Packs, Components Thereof, and Products Containing the Same; Commission Determination To Grant a Joint Motion To Terminate the Investigation on the Basis of a Settlement Agreement; Termination of the Investigation

AGENCY: U.S. International Trade Commission.

ACTION: Notice.

SUMMARY: Notice is hereby given that the U.S. International Trade Commission has determined to grant a joint motion to terminate the above-captioned investigation based on a settlement agreement.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On November 4, 2019, the Commission instituted this investigation based on a complaint filed by LG Chem, Ltd. of Seoul, Republic of Korea; LG Chem Michigan Inc. of Holland, Michigan; and Toray Industries, Inc. of Tokyo, Japan. 84 FR 59415 (Nov. 4, 2019). The complaint, as supplemented, alleged violations of section 337 of the Tariff Act of 1930, as amended, 19 U.S.C. 1337, due to the importation into the United States, sale for importation, or sale in the United States after importation of certain lithium-ion battery cells, battery modules, battery packs, components thereof, and products containing the same that purportedly infringe one or more claims of U.S. Patent Nos. 7,662,517; 7,638,241; 7,709,152; and 7,771,877. Id. The complaint also alleged the existence of a domestic industry. Id. The notice of investigation names SK Innovation Co., Ltd., of Seoul, Republic of Korea and SK Battery America, Inc., of Atlanta, Georgia as respondents. Id. The Office of Unfair Import Investigations was not named as a party. Id.

On March 31, 2021, the administrative law judge issued a final initial determination, which found no violation of section 337 by the respondents.

On May 25, 2021, pursuant to Commission Rule 210.21, paragraphs (a) and (b) (19 CFR 210.21(a) and (b)), the parties filed a Joint Motion to Terminate the Investigation on the Basis of a Settlement Agreement (“the Motion”). The parties also filed confidential and public versions of the settlement agreement.

The Commission has determined that the Motion complies with the requirements of Commission Rule 210.21(b)(1) (19 CFR 210.21(b)(1)) and that there are no extraordinary circumstances that would prevent the requested termination. The Commission also finds that granting the Motion would not be contrary to the public interest pursuant to Commission Rule 210.50(b)(2) (19 CFR 210.50(b)(2)). Accordingly, the Commission grants the Motion. The investigation is hereby terminated in its entirety.

The Commission vote for this determination took place on May 27, 2021.

The authority for the Commission's determination is contained in section 337 of the Tariff Act of 1930, as amended (19 U.S.C. 1337), and in Part 210 of the Commission's Rules of Practice and Procedure (19 CFR part 210).

By order of the Commission.
Issued: May 27, 2021.
Lisa Barton,
Secretary to the Commission.

[FR Doc. 2021-11621 Filed 6-2-21; 8:45 am]

BILLING CODE 7020-02-P